DEPARTMENT OF EDUCATION

[Docket No.: ED-2017-ICCD-0102]

Agency Information Collection Activities; Submission to the Office of Management and Budget for Review and Approval; Comment Request; 2017-18 National Postsecondary Student Aid Study Administrative Collection (NPSAS:18-AC)

AGENCY: National Center for Education Statistics (NCES), Department of Education (ED).

ACTION: Notice.

SUMMARY: In accordance with the Paperwork Reduction Act of 1995, ED is proposing a revision of an existing information collection.

DATES: Interested persons are invited to submit comments on or before October 30, 2017.

ADDRESSES: To access and review all the documents related to the information collection listed in this notice, please use http://www.regulations.gov by searching the Docket ID number ED-2017-ICCD-0102. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 216-34, Washington, DC 20202-4537.

FOR FURTHER INFORMATION CONTACT: For specific questions related to collection activities, please contact NCES Information Collections at NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2017-18 National Postsecondary Student Aid Study Administrative Collection (NPSAS: 18-AC).

OMB Control Number: 1850-0666.

Type of Review: A revision of an existing information collection.

Respondents/Affected Public: Individuals or Households.

Total Estimated Number of Annual Responses: 10,804.

Total Estimated Number of Annual Burden Hours: 63,335.

Abstract: This request is to conduct the 2017-18 National Postsecondary Student Aid Study, Administrative Collection (NPSAS:18-AC). This study is being conducted by the National Center for Education Statistics (NCES). NPSAS is a nationally representative study of how students and their families finance education beyond high school. The first NPSAS was implemented by NCES during the 1986-87 academic year to meet the need for national data about significant financial aid issues. Since 1987, NPSAS has been fielded every 3 to 4 years, most recently during the 2015-16 academic year (NPSAS:16). This submission is for NPSAS:18-AC, which departs from the design of previous NPSAS studies in three respects: It is anticipated to include state-representative estimates for undergraduate students overall and in public 2-year and public 4-year institutions; it will provide financial aid estimates 2-years earlier than how the studies were previously scheduled; and it will be the first NPSAS study without a student interview component. Future NPSAS collections will continue to include a student interview every four years (NPSAS:16, NPSAS:20, NPSAS:24) to yield nationally representative data. In alternating cycles, an Administrative Collection (NPSAS:18-AC, NPSAS:22-AC, and NPSAS:26-AC) will be conducted in which only administrative data from the Department's data systems and institutional student records will be compiled to yield state representative data. This submission covers materials and procedures related to enrollment list collection, student record abstractions, and matching to administrative data files as part of the NPSAS:18-AC data collection.

Dated: September 25, 2017.
Kate Mullan,
Acting Director, Information Collection Clearance Division, Office of the Chief Privacy Officer, Office of Management.

[FR Doc. 2017-20780 Filed 9-27-17; 8:45 am]

BILLING CODE 4000-01-P